DEPARTMENT OF TRANSPORTATION

Office of the Secretary

[Docket No. OST-2005-22902]

Notice of Request for Extension of Currenlty Approved Information Collection

AGENCY: Office of the Secretary, DOT.

ACTION: Notice and request for comments.

SUMMARY: In accordance with the Paperwork Reduction Act of 1995 (44 U.S.C. Chapter 35, as amended) this notice announces the Department of Transportation's (DOT) intention to request an extension without change for a currently approved information collection.

DATES: Comments on this notice must be received by January 9, 2006.

ADDRESSES: To ensure that you do not duplicate your docket submissions, please submit them by only one of the following means, identified by DOT DMS Docket Number OST-2005-22902:

(1) By mail to the Docket Management Facility, U.S. Department of Transportation, Room PL-401, 400 Seventh Street, SW., Washington, DC 20590-0001. [It is important to note that because of current security procedures affecting the U.S. Mail, other means (e.g., FedEx, UPS) may be faster];

(2) By delivery to room PL-401 on the Plaza Level of the Nassif Building, 400 Seventh Street, SW., Washington, DC, between 9 a.m. and 5 p.m., Monday through Friday, except Federal holidays.

(3) By fax to the Docket Management Facility at (202) 493-2551; or

(4) By electronic means through the web site for the Docket Management System at: http://dms.dot.gov.

The Docket Management Facility maintains the public docket for this rulemaking. Comments to the docket will be available for inspection or copying at room PL-401 on the Plaza level of the Nassif Building, 400 Seventh Street, SW., Washington, DC, between 9 a.m. and 5 p.m., Monday through Friday, except Federal holidays. The public may also review docketed comments electronically at http://dms.dot.gov.

FOR FURTHER INFORMATION CONTACT: Ms. Cynthia A. Roscoe, Committee Management Officer, Executive Secretariat, Office of the Secretary, Department of Transportation, at the address listed above. Telephone: (202) 366-9764.

SUPLEMENTARY INFORMATION: Title: Advisory Committee Candidate Biographical Information Request, DOT F1120.1.

OMB Control Number: 2105-0009.

Type of Request: Extension without change for a currently approved information collection.

Abstract: The collection of information obtained by the Advisory Committee Candidate Biographical Information Request form enables Department officials to review the qualifications of individuals who wish to serve on Department-sponsored advisory committees and the qualifications of persons who have been recommended to serve. The collection provides uniform data for each individual and enables DOT to comply with the Federal Advisory Committee Act (Pub. L. 92-463) (5 U.S.C. App.) which requires that advisory committee membership be balanced.

A number of DOT's advisory committees were created by statute and have statutory requirements for education, experience, or expertise. The data collection enables DOT to comply with such membership requirements, by providing information form which officials may determine which individuals meet specific qualification standards for particular advisory committees and for particular positions within a committee. In fact, some statutory committees require very narrow and specific expertise for each position on the committee, which can be ascertained by reviewing the Advisory Committee Candidate Biographical Request form.

Finally, the data collection allows officials to retain a file of interested applicants. As vacancies occur on specific advisory committees, the applications and qualifications can be reviewed for possible placement.

In the absence of the data collection, officials would have to contact by telephone or by letter each person who expressed an interest or who was recommended for an advisory committee position to determine his/her interest, education, experience, or expertise. This would be a more time-consuming and costly data collection effort which would have to be repeated if the individual were to be considered at a later time for vacancies on other advisory committees.

Respondents: Individuals who have contacted DOT to indicate interest in appointment to an advisory committee and individuals who have been recommended for membership on an advisory committee. Only one collection is expected per individual.

Estimated Number of Respondents per year: 100.

Total Burden: 35 hours.

This information collection is available for inspection at the Office of the Executive Secretariat, Room 10205, Office of the Secretary, DOT, at the above address.

Comments are invited on: (a) Whether the continued collection of the information is necessary for the proper performance of the functions of the Department, (b) the accuracy of the Department's estimate of the burden of the current information collection, (c) ways to enhance the quality, utility, and clarity of the information collection, (c) ways to enhance the quality, utility, and clarity of the information being collected and (d) ways to minimize the burden of the collection techniques or other forms of information technology.

All responses to this notice will be summarized an included in the request for OMB approval. All comments will also become a matter of public record.

Issued in Washington, DC on November 3, 2005.
Michael C. Dannenhauer,
Director, Executive Secretariat.

[FR Doc. 05-22356 Filed 11-8-05; 8:45 am]

BILLING CODE 4910-62-P